DEPARTMENT OF HEALTH AND HUMAN SERVICES

Centers for Medicare & Medicaid Services

42 CFR Parts 403, 416, 418, 441, 460, 482, 483, 484, 485, 486, 491, and 494

[CMS-3178-N]

Medicare and Medicaid Programs; Emergency Preparedness Requirements for Medicare and Medicaid Participating Providers and Suppliers; Extension of Comment Period

AGENCY: Centers for Medicare & Medicaid Services (CMS), HHS.

ACTION: Proposed rule; extension of the comment period.

SUMMARY: This document extends the comment period for the Emergency Preparedness Requirements for Medicare and Medicaid Participating Providers and Suppliers proposed rule, which was published in the December 27, 2013 Federal Register (78 FR 79082 through 79200). The comment period for the proposed rule, which would have ended on February 25, 2014, is extended to March 31, 2014.

DATES: The comment period for the proposed rule published in the December 27, 2013 Federal Register (78 FR 79082 through 79200) is extended to March 31, 2014.

ADDRESSES: In commenting, please refer to file code CMS-3178-P. Because of staff and resource limitations, we cannot accept comments by facsimile (FAX) transmission.

You may submit comments in one of four ways (please choose only one of the ways listed):

1. You may submit electronic comments on this regulation to http://www.regulations.gov. Follow the “Submit a comment” instructions.

2. By regular mail. You may mail written comments to the following address ONLY:

Centers for Medicare & Medicaid Services, Department of Health and Human Services, Attention: CMS-3178-P, P.O. Box 8013, Baltimore, MD 21244-8013.

Please allow sufficient time for mailed comments to be received before the close of the comment period.

3. By express or overnight mail. You may send written comments to the following address ONLY:

Centers for Medicare & Medicaid Services, Department of Health and Human Services, Attention: CMS-3178-P, Mail Stop C4-26-05, 7500 Security Boulevard, Baltimore, MD 21244-1850.

4. By hand or courier. If you prefer, you may deliver (by hand or courier) your written comments before the close of the comment period to either of the following addresses:

a. For delivery in Washington, DC—Centers for Medicare & Medicaid Services, Department of Health and Human Services, Room 445-G, Hubert H. Humphrey Building, 200 Independence Avenue SW., Washington, DC 20201.

(Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—Centers for Medicare & Medicaid Services, Department of Health and Human Services, 7500 Security Boulevard, Baltimore, MD 21244-1850.

If you intend to deliver your comments to the Baltimore address, please call telephone number (410) 786-7195 in advance to schedule your arrival with one of our staff members.

Comments mailed to the addresses indicated as appropriate for hand or courier delivery may be delayed and received after the comment period.

FOR FURTHER INFORMATION CONTACT: Janice Graham, (410) 786-8020, Mary Collins, (410) 786-3189, Diane Corning, (410) 786-8486, Ronisha Davis, (410) 786-6882, Lisa Parker, (410) 786-4665.

SUPPLEMENTARY INFORMATION: In the December 27, 2013 Federal Register (78 FR 79082 through 79200), we published the Emergency Preparedness Requirements for Medicare and Medicaid Participating Providers and Suppliers proposed rule that proposes to revise and, for some providers/suppliers, establish, emergency preparedness requirements. These emergency preparedness requirements would apply to 17 provider and supplier types with various capabilities and capacities to comply with the proposed requirements. The proposed rule, if finalized, would require providers and suppliers to meet these four broad standards:

• To develop an emergency plan based on a risk assessment that utilizes an all-hazards approach.

• To develop and implement policies and procedures based on the plan and their risk assessment.

• To develop and maintain a communication plan to locate patients and/or residents and address their health care needs during and after a disaster. The plan must comply with both Federal and State laws and it must be well-coordinated within the facility and across health care providers.

• To provide personnel training and to test their emergency program annually.

In the proposed rule, we proposed to establish national emergency preparedness requirements for Medicare and Medicaid participating providers and suppliers to ensure that they plan for both natural and man-made disasters and coordinate with federal, state, tribal, regional, and local emergency preparedness systems. These requirements would ensure that these providers and suppliers are adequately prepared to meet the needs of patients, residents, clients, and participants during disasters and emergency situations.

We have received inquiries from industry organizations regarding the short turn-around time to canvass their membership for input on this proposed rule. One organization stated that they needed additional time to respond to the rule due to current regional emergencies that are requiring the attention of emergency management personnel who would likely be interested in commenting on the proposal. Because of the scope of the proposed rule, and since we have specifically requested the public's comments on various aspects of the rule in an attempt to benefit from the vast experiences of emergency management and provider/supplier communities, we believe that it is important to allow ample time for all sections of the public to comment on this proposed rule. Therefore, we are extending the comment period until March 31, 2014.

(Catalog of Federal Domestic Assistance Program No. 93.778, Medical Assistance Program; No. 93.773, Medicare—Hospital Insurance; and Program No. 93.774, Medicare—Supplementary Medical Insurance Program)

Dated: February 12, 2014.
Marilyn Tavenner,
Administrator, Centers for Medicare & Medicaid Services.

[FR Doc. 2014-03710 Filed 2-20-14; 8:45 am]

BILLING CODE 4120-01-P